COMMISSION ON CIVIL RIGHTS

Notice of Public Meeting of the Kansas Advisory Committee to plan for a public hearing regarding civil rights and voting requirements in the State. The discussion will include approving an agenda of speakers, and logistical setup for the event.

AGENCY: U.S. Commission on Civil Rights.

ACTION: Announcement of meeting.

SUMMARY: Notice is hereby given, pursuant to the provisions of the rules and regulations of the U.S. Commission on Civil Rights (Commission) and the Federal Advisory Committee Act that the Kansas Advisory Committee (Committee) will hold a meeting on Thursday, November 19, 2015, at 12:00 p.m. CST for the purpose of discussing preparations for an upcoming hearing on voting rights in the State.

This meeting is available to the public through the following toll-free call-in number: 888-427-9376, conference ID: 1744905. Any interested member of the public may call this number and listen to the meeting. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-977-8339 and providing the Service with the conference call number and conference ID number.

Members of the public are invited and welcomed to make statements at the end of the conference call. In addition, members of the public may submit written comments; the comments must be received in the regional office within 30 days after the meeting. Written comments may be mailed to the Regional Programs Unit, U.S. Commission on Civil Rights, 55 W. Monroe St., Suite 410, Chicago, IL 60615. They may also be faxed to the Commission at (312) 353-8324, or emailed to Administrative Assistant, Corrine Sanders at csanders@usccr.gov. Persons who desire additional information may contact the Regional Programs Unit at (312) 353-8311.

Records and documents discussed during the meeting will be available for public viewing prior to and after the meeting at https://database.faca.gov/committee/meetings.aspx?cid=249 and clicking on the “Meeting Details” and “Documents” links. Records generated from this meeting may also be inspected and reproduced at the Regional Programs Unit, as they become available, both before and after the meeting. Persons interested in the work of this Committee are directed to the Commission's Web site, http://www.usccr.gov, or may contact the Regional Programs Unit at the above email or street address.

AGENDA:

Welcome and Introductions

Elizabeth Kronk Warner, Chair

Preparatory Discussion for Public Hearing on Voting Rights in Kansas

Kansas Advisory Committee

Open Comment

Public Participation

Adjournment

DATES: The meeting will be held on Thursday, November 19, 2015, at 12:00 p.m. CST.

PUBLIC CALL INFORMATION:

Dial: 888-427-9376

Conference ID: 1744905

FOR FURTHER INFORMATION CONTACT: Melissa Wojnaroski, DFO, at 312-353-8311 or mwojnaroski@usccr.gov

Dated: October 29, 2015.
David Mussatt,
Chief, Regional Programs Unit.

[FR Doc. 2015-27991 Filed 11-2-15; 8:45 am]

BILLING CODE 6335-01-P